FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—03/03/2008
20080767 | Banco de Sabadell, SA | Banco Bilbao Vizcaya Argentaria, SA | Banco Bilbao Vizcaya Argentaria, SA.
20080782 | Ares Corporate Opportunities Fund, L.P | Hanger Orthopedic Group, Inc | Hanger Orthopedic Group, Inc.
20080791 | Shimano American Corporation | Nautilus, Inc | DashAmerica, Inc.
20080792 | Sanmar Holdings Limited | ING Furman Selz Investors III L.P | Matrix Metals LLC.
20080806 | Oak Hill Capital Partners III, L.P | Oak Hill Capital Partners II, L.P | Local TV, LLC.
TRANSACTIONS GRANTED EARLY TERMINATION—03/04/2008
20080802 | Mason Wells Buyout Fund II, Limited Partnership | Coating Excellence International, LLC | Coating Excellence International, LLC.
20080810 | Dell Inc. | MessageOne Inc | MessageOne Inc.
20080817 | Susquehanna Bancshares, Inc | Mr. & Mrs. James W. Stratton | Stratton Holding Company.
TRANSACTIONS GRANTED EARLY TERMINATION—03/05/2008
20080796 | West Corporation | Genesys SA | Genesys SA.
20080808 | Alfred Lerner Trust dated June 29, 2001 | The Midland Company | M/G Transport Services, Inc.; MGT Services, Inc.; River System Logistics, Inc.
TRANSACTIONS GRANTED EARLY TERMINATION—03/06/2008
20080581 | National Oilwell Varco, Inc | Grant Prideco, Inc | Grant Prideco, Inc.
20080730 | NYSE Euronext | The Amex Membership Corporation | American Stock Exchange Holdings, Inc.
20080768 | EMC Corporation | Warburg Pincus Private Equity VIII, L.P | PI Corporation.
20080807 | Celgene Corporation | Acceleron Pharma, Inc | Acceleron Pharma, Inc.
20080816 | Insight Enterprises, Inc | Avnet, Inc | Calence, LLC.
TRANSACTIONS GRANTED EARLY TERMINATION—03/07/2008
20080744 | Mitsubishi Materials Corporation | Robertson's Ready Mix, Ltd | Robertson's Ready Mix, Ltd.
20080745 | Mitsubishi Materials Corporation | RRM Properties, Ltd | RRM Properties, Ltd.
20080789 | OGE Energy Corp | Harbinger Capital Partners Offshore Fund I, Ltd | Redbud Energy L.P.
20080819 | OPG Groep N.V | Fox Paine Capital Fund, L.P | Byram Holdings I, Inc.
20080828 | Microsoft Corporation | Danger, Inc | Danger, Inc.
20080829 | SYNNEX Corporation | Adam Carroll | New Age Electronics, Inc.
20080830 | SYNNEX Corporation | Lee Perlman | New Age Electronics, Inc.
20080835 | Royal Bank of Canada | Ferris, Baker Watts, Incorporated | Ferris, Baker Watts, Incorporated.
20080837 | Paine & Partners Capital Fund III, L.P | Stab Development S.a.r.I | Stab Erste Holding GmbH.
20080840 | Parker Hannifin Corporation | Perseis Private Equity General Partner Inc | Vansco Electronics General Partner Inc.; Vansco Electronics Holdings Inc.
20080844 | JMI Equity Fund VI, L.P | Edge Acquisition, LLC | Catapult Learning, LLC.
TRANSACTIONS GRANTED EARLY TERMINATION—03/10/2008
20080755 | Sun Capital Partners V, L.P | Frontier Spinning Mills, Inc | Frontier Spinning Mills, Inc.
20080793 | Morgenthaler Partners VIII, L.P | Roto-Die Company, Inc | Roto-Die Company, Inc.
20080834 | Hercules Offshore, Inc | Transocean, Inc | GlobalSanteFe Drilling Company.
20080836 | Allis-Chalmers Energy Inc | Bronco Drilling Company, Inc | Bronco Drilling Company, Inc.
20080854 | Catterton Partners VI, L.P | Restoration Hardware, Inc | Restoration Hardware, Inc.
TRANSACTIONS GRANTED EARLY TERMINATION—03/12/2008
20080783 | Donald E. Graham | Corinthian Colleges, Inc | Corinthian Colleges, Inc.
20080803 | Quadrangle Capital Partners II L.P | Dice Holdings, Inc | Dice Holdings, Inc.
20080804 | Timothy R. Barakett | Deutsche Borse AG | Deutsche Borse AG.
TRANSACTIONS GRANTED EARLY TERMINATION—03/17/2008
20080619 | BAE Systems plc | MTC Technologies, Inc | MTC Technologies, Inc.
20080858 | Third Avenue International Value Fund | Catalyst Paper Corporation | Catalyst Paper Corporation.
20080861 | Morgan Stanley | Markit Group Holdings Limited | Markit Group Holdings Limited.
20080864 | Citigroup, Inc | Markit Group Holdings Limited | Markit Group Holdings Limited.
20080866 | Goldman Sachs & Co | Markit Group Holdings Limited | Markit Group Holdings Limited.
20080871 | Hellman & Friedman Capital Partners VI, L.P | Getty Images, Inc | Getty Images, Inc.
20080883 | Citigroup Inc | Legg Mason, Inc | Legg Mason Private Portfolio Group, LLC.
20080889 | Close Brothers Private Fund VII L.P | LMS Capital Plc | Energy Cranes International Limited.
TRANSACTIONS GRANTED EARLY TERMINATION—03/18/2008
20080824 | General Electric Company | Whatman plc | Whatman plc.
TRANSACTIONS GRANTED EARLY TERMINATION—03/19/2008
20080869 | Newell Rubbermaid Inc | Technical Concepts Holdings, LLC | Technical Concepts Holdings, LLC.
20080874 | Nucor Corporation | Richard I. Galamba | Carrollton Properties, LLC; Fort Scott Properties, LLC; Gala Leasing, Inc.; Galamba Companies, Inc.; Galamba Metals Group, LLC; Galamba Processing Services, LLC; Industrial Property Holdings, Inc.; Iron Horse Transport, LLC; Kansas City Car Crushers, LLC; Kaw River Properties, LLC; KRSI Properties, Inc.; MRL Properties, LLC; NCS Properties, Inc.; RIG Industries, Inc.; Riverview Properties, Inc.; Scrap-All Properties, LLC.
TRANSACTIONS GRANTED EARLY TERMINATION—03/20/2008
20080815 | Regency Energy Partners L.P | Cofra Holding AG | Nexus Gas Holdings, LLC.
20080867 | Bank of America Corporation | Markit Group Holdings Limited | Markit Group Holdings Limited.
20080873 | Audax Private Equity Fund III, L.P | Industrial Dielectrics, Inc | Industrial Dielectrics, Inc.
20080875 | AECOM Technology Corporation | Tyco International Ltd. | Earth Tech (Canada) Inc.; Earth Tech Consulting Services (Philippines) Inc.; Earth Tech CZ s.r.o.; Earth Tech EMS Holdings, Inc.; Earth Tech Environment & Infrastructure, Inc.; Earth Tech Hungary Engineering Limited; Earth Tech (Infrastructure) Inc.; Earth Tech Management Consulting Services (Beijing) Co., Ltd.; Earth Tech Mexican Holdings, SA de C.V.; Guangzhou Xilang Wastewater Treatment Co. Ltd.; J. Muller International (USA); Nordic Water GmbH; Nordic Water Holding AB; Nordic Water Products AB; Professional Registrar Organization, Inc.; Qinhuangdao Pacific Water Company Limited; Talisman Partners, Ltd.; TAMS Consultants, Inc.; The Earth Technology Corporation (USA); Tianjin Earth Tech Jieyuan Water Co., Ltd.; Tyco Earth Tech Malaysia Sdn. Bhd.; Tyco Tech Holdings Ireland; Tyco Tech Limited; Water and Power Technologies, Inc.
20080887 | Nautic Partners VI, L.P | Norman Carr | First State Container, LLC; Keystone Container, LLC; Maine Container, LLC; N & A Associates, Inc.; Richmond Packaging, LLC.
TRANSACTIONS GRANTED EARLY TERMINATION—03/24/2008
20080841 | Kirin Holdings Company, Limited | Kyowa Hakko Co., Ltd | Kyowa Hakko Co., Ltd.
20080865 | Merrill Lynch & Co., Inc | Markit Group Holdings Limited | Markit Group Holdings Limited.
20080893 | WLR Recovery Fund IV, L.P | Assured Guaranty Ltd | Assured Guaranty Ltd.
20080897 | Black Bear Offshore Master Fund, L.P | Amylin Pharmaceuticals, Inc | Amylin Pharmaceuticals, Inc.
20080899 | Audax Private Equity Fund III, L.P | AEA Investors Small Business Fund L.P | ITS Holding I Corporation.
20080900 | 1996 SMR Trust III | H. Wayne Huizenga | County Line South Properties, LLC; Dolphin Center Properties, LLC; Miami Dolphins, Ltd.; South Florida Stadium LLC.
20080912 | Reuters Group PLC | 2003 TIL Settlement | LawBook Holdings B.V.; LN Holdings Limited; TTC Holdings Limited.
TRANSACTIONS GRANTED EARLY TERMINATION—03/25/2008
20080906 | Thoma Cressey Fund VIII, L.P | Ecoly International, Inc | Ecoly International, Inc.
20080924 | HNI Corporation | Furniture Brands International, Inc | Hickory Business Furniture, LLC.
20080933 | Fortis SA/NY | RFS Holdings B.V | ABN AMRO Asset Management Holding N.V.
TRANSACTIONS GRANTED EARLY TERMINATION—03/26/2008
20080820 | Verizon Communications Inc | AT&T Inc | AT&T Inc.
20080821 | AT&T Inc | Verizon Communications Inc | Cellco Partnership, d/b/a Verizon Wireless.
20080894 | Metalico, Inc | Grand Avenue Incorporated | Assad Iron & Metals, Inc.; Brownsville Enterprises, Ltd.; Heidelberg Metals, Inc.; Neville Recycling LLC; Platt Properties LLC.
TRANSACTIONS GRANTED EARLY TERMINATION—03/27/2008
20080934 | Fortis N.V | RFS Holdings B.V | ABN AMRO Asset Management Holding N.V.
TRANSACTIONS GRANTED EARLY TERMINATION—03/28/2008
20080881 | Entergy Corporation | United States Power Fund III, L.P | Quachita Power, LLC.

FOR FURTHER INFORMATION CONTACT: Sandra M. Peay, Contact Representative, or Renee Hallman, Contact Representative; Federal Trade Commission, Premerger Notification Office, Bureau of Competition, Room H-303, Washington, DC 20580, (202) 326-3100.

By direction of the Commission.
Donald S. Clark,
Secretary.

[FR Doc. E8-7134 Filed 4-7-08; 8:45 am]

BILLING CODE 6750-01-M